DEPARTMENT OF JUSTICE

Notice of Lodging of Proposed Consent Decree Under the Comprehensive Environmental Response, Compensation, and Liability Act

On April 9, 2015, the Department of Justice lodged a proposed Consent Decree with the United States District Court for the Eastern District of Wisconsin in the lawsuit entitled United States and the State of Wisconsin v. NCR Corp., et al., Case No. 10-cv-910 (E.D. Wis.).

In 2010, the United States and the State of Wisconsin filed a lawsuit against multiple defendants that had contributed to polychlorinated biphenyl (“PCB”) contamination in sediment at the Lower Fox River and Green Bay Superfund Site in northeastern Wisconsin (the “Site”). That lawsuit—brought under the Comprehensive Environmental Response, Compensation, and Liability Act (“CERCLA”), 42 U.S.C. 9601-75—sought enforcement of a U.S. Environmental Protection Agency order requiring cleanup work at the Site, reimbursement of response costs that the United States and the State have incurred in addressing the PCB contamination at the Site, and recovery of damages for injuries to natural resources resulting from the PCB contamination. The proposed Consent Decree is a partial settlement that requires two defendants, NCR Corporation and Georgia-Pacific Consumer Products LP, to fund and perform an estimated $67 million in sediment remediation work at the Site in 2015. This partial settlement does not resolve all aspects of the ongoing lawsuit or all potential liabilities of NCR Corporation or Georgia-Pacific Consumer Products LP.

The publication of this notice opens a period for public comment on the Consent Decree. Comments should be addressed to the Assistant Attorney General, Environment and Natural Resources Division, and should refer to United States and the State of Wisconsin v. NCR Corp., et al., D.J. Ref. No. 90-11-2-1045/3. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department Web site: http://www.usdoj.gov/enrd/Consent_Decrees.html. We will provide a paper copy of the Consent Decree upon written request and payment of reproduction costs (at 25 cents per page). Please mail your request and a check or money order payable to the United States Treasury to: Consent Decree Library, U.S. DOJ—ENRD, P.O. Box 7611, Washington, DC 20044-7611.

The cost for a paper copy is $2.75 for the Consent Decree alone or $40.00 for the Consent Decree and its Appendix.

Randall M. Stone,
Acting Assistant Section Chief, Environmental Enforcement Section, Environment and Natural Resources Division.

[FR Doc. 2015-08637 Filed 4-14-15; 8:45 am]

BILLING CODE 4410-15-P